DEPARTMENT OF ENERGY

Federal Energy Regulatory Commission

[Docket No. CP00-64-000]

Dominion Transmission, Inc.; Notice of Availability of the Environmental Assessment for the Proposed Dominion Transmission ¹ Capstone Project

September 5, 2000.

The staff of the Federal Energy Regulatory Commission (FERC or Commission) has prepared an environmental assessment (EA) on the natural gas pipeline facilities proposed by Dominion Transmission, Inc. (Dominion) in the above-referenced docket.

¹ In May, 2000 Dominion Transmission, Inc. purchased CNG Transmission Corporation which filed the application under this docket number.

The EA was prepared to satisfy the requirements of the National Environmental Policy Act. The staff concludes that approval of the proposed project, with appropriate mitigating measures, would not constitute a major Federal action significantly affecting the quality of the human environment.

The EA assesses the potential environmental effects of the construction and operation of: (1) Approximately 13 miles of 30-inch-diameter pipeline loop (the TL474X2 pipeline) and 800 feet of 30-inch-diameter connector pipeline in Armstrong County, Pennsylvania; (2) an upgrade of the Punxsutawney Compressor Station in Jefferson County, Pennsylvania, installing a 5,000 horsepower (hp) compressor engine; (3) an upgrade of the Ardell Compressor Station in Elk County, Pennsylvania, replacing a 12,600 hp engine with a 15,000 hp engine; (4) installing a new 6,400 hp Compression Station next to the existing Greenlick Relay Station in Potter County, Pennsylvania; (5) installing a new 7,000 hp Brookman Corners Compressor Station in Montgomery County, New York; and (6) abandoning approximately 13 miles (11.4 miles in-place and 9.600 feet by removal) of the 12-inch-diameter LN-9 Pipeline in Armstrong County, Pennsylvania.

The purpose of the proposed project would be to replace with its own facilities, capability currently provided to Dominion by Tennessee Gas Pipeline Company (Tennessee). This would allow Dominion to continue to guarantee service to current customers at the same level. Dominion anticipates termination of its contract with Tennessee allowing throughput on Tennessee's system. The proposal does not include provision for adding service or customers.

The EA has been placed in the public files of the FERC. A limited number of copies of the EA are available for distribution and public inspection at: Federal Energy Regulatory Commission, Public Reference and Files Maintenance Branch, 888 First Street, N.E., Room 2A, Washington, DC 20426, (202) 208-1371.

Copies of the EA have been mailed to Federal, state and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

• Send two copies of your comments to: Secretary, Federal Energy Regulatory Commission, 888 First St., N.E., Room 1A, Washington, DC 20426;

• Label one copy of the comments for the attention of Gas 2, PJ11.2.

• Reference Docket No. CP00-64-000; and

• Mail your comments so that they will be received in Washington, DC on or before October 6, 2000.

Comments will be considered by the Commission but will not serve to make the commenter a party to the proceeding. Any person seeking to become a party to the proceeding must file a motion to intervene pursuant to Rule 214 of the Commission's Rules and Practice and Procedures (18 CFR 385.214). Only intervenors have the right to seek rehearing of the Commission's decision.

Affected landowners and parties with environmental concerns may be granted intervenor status upon showing good cause by stating that they have a clear and direct interest in this proceeding which would not be adequately represented by any other parties. You do not need intervenor status to have your comments considered.

Additional information about the proposed project is available from Paul McKee in the Commission's Office of External Affairs, at (202) 208-1088 or on the FERC Internet website (www.ferc.fed.us) using the “RIMS” link in this docket number. Click on the “RIMS” link, select “Docket#” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket#” from the CIPS menu, and follow the instructions. For assistance with access to CIPS, the CIPS helpline can be reached at (202) 208-2474.

David P. Boergers,
Secretary.

[FR Doc. 00-23214 Filed 9-8-00; 8:45 am]

BILLING CODE 6717-01-M